NUCLEAR REGULATORY COMMISSION

[Docket Nos. 50-213 and 72-39; NRC-2024-0093]

Connecticut Yankee Atomic Power Company; Haddam Neck Plant; Exemption

AGENCY: Nuclear Regulatory Commission.

ACTION: Notice; issuance.

SUMMARY: The U.S. Nuclear Regulatory Commission (NRC) has issued an exemption in response to the April 24, 2023, request from Connecticut Yankee Atomic Power Company (CYAPCO), for the Haddam Neck Plant (HNP or Haddam Neck) located in East Hampton, Connecticut. The exemption permits CYAPCO to make withdrawals from a separate account within CYAPCO's overall nuclear decommissioning trust (NDT), on an annual basis, for spent nuclear fuel (SNF) and Greater than Class C (GTCC) waste management and non-radiological site restoration without prior notification to the NRC.

DATES: The exemption was issued on May 30, 2024.

ADDRESSES: Please refer to Docket ID NRC-2024-0093 when contacting the NRC about the availability of information regarding this document. You may obtain publicly available information related to this document using any of the following methods:

• Federal Rulemaking Website: Go to https://www.regulations.gov and search for Docket ID NRC-2024-0093. Address questions about Docket IDs in Regulations.gov to Stacy Schumann; telephone: 301-415-0624; email: Stacy.Schumann@nrc.gov. For technical questions, contact the individual listed in the “For Further Information Contact” section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. The ADAMS accession number for each document referenced (if it is available in ADAMS) is provided the first time that it is mentioned in this document.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

FOR FURTHER INFORMATION CONTACT: Tilda Liu, Office of Nuclear Material Safety and Safeguards, U.S. Nuclear Regulatory Commission, Washington, DC 20555-0001; telephone: 404-997-4730; email: Tilda.Liu@nrc.gov.

SUPPLEMENTARY INFORMATION: By letter dated April 24, 2023 (ADAMS Accession No. ML23130A118), CYAPCO submitted a request to the NRC for an exemption from paragraphs 50.82(a)(8)(i)(A) and 50.75(h)(2) of title 10 of the Code of Federal Regulations (10 CFR) for the HNP Independent Spent Fuel Storage Installation ¹ (ISFSI).

¹ As discussed in this document, the Haddam Neck ISFSI sits on the former site of HNP, which CYAPCO finished decommissioning in 2007. Although only the Haddam Neck ISFSI remains on the site, CYAPCO's 10 CFR part 50 license, Facility Operating License No. DPR-61 remains in effect. Because CYAPCO requested an exemption from the requirements of 10 CFR part 50, this would be an exemption for CYAPCO's 10 CFR part 50 license rather than for CYAPCO's 10 CFR part 72 general license. Therefore, although CYAPCO's submission requested an exemption for the Haddam Neck ISFSI, the NRC staff considers it a request for an exemption for HNP.

CYAPCO has established a separate (segregated) account within its over-arching NDT, entitled “ISFSI Radiological Decom,” that identifies the funds for radiological decommissioning of the ISFSI apart from the larger balance of funds in the NDT allocated for ongoing management of SNF and GTCC waste and for non-radiological site restoration activities. Although 10 CFR 50.82 applies to the segregated account, it does not apply to the overall NDT.

The exemption from 10 CFR 50.82(a)(8)(i)(A) and 50.75(h)(2) allows CYAPCO to make withdrawals from the segregated account, on an annual basis, for SNF and GTCC waste management and non-radiological site restoration without prior notification to the NRC. More specifically, with this exemption, CYAPCO can annually transfer funds exceeding 110 percent of the inflation-adjusted Decommissioning Cost Estimate, described in 10 CFR 50.75, from the segregated account to its overarching NDT and use those funds for SNF and GTCC waste management and non-radiological site restoration.

Based on the review, the NRC determined that, pursuant to 10 CFR 50.12(a), the exemption is authorized by law, will not present an undue risk to the public health and safety, and is consistent with the common defense and security. Also, the NRC determined that special circumstances, consistent with 10 CFR 50.12(a)(ii) and (iii), are present. Therefore, the NRC granted CYAPCO an exemption from the requirements of 10 CFR 50.82(a)(8)(i)(A) and 10 CFR 50.75(h)(2) to permit CYAPCO to make withdrawals from the segregated account, on an annual basis, for SNF and GTCC waste management and non-radiological site restoration without prior notification to the NRC. All other relevant requirements shall be met. On May 30, 2024, the NRC issued an exemption for CYAPCO (ADAMS Package Accession No. ML24099A196). The NRC staff also prepared an environmental assessment and finding of no significant impact regarding the proposed exemption request, published in the Federal Register on May 28, 2024 (89 FR 46170), and concluded that the proposed exemption would not have a significant impact on the quality of the human environment.

Dated: June 11, 2024.
For the Nuclear Regulatory Commission.
Yoira Diaz-Sanabria,
Chief, Storage and Transportation Licensing Branch, Division of Fuel Management, Office of Nuclear Material Safety and Safeguards.

[FR Doc. 2024-13205 Filed 6-14-24; 8:45 am]

BILLING CODE 7590-01-P